ENVIRONMENTAL PROTECTION AGENCY

[EPA-HQ-OPP-2009-0390; FRL-8422-1]

Notice of Suspension of Certain Pesticide Registrations

AGENCY: Environmental Protection Agency (EPA).

ACTION: Notice.

SUMMARY: This notice, pursuant to section 6(f)(2) of the Federal Insecticide, Fungicide, and Rodenticide Act (FIFRA), announces that certain Notices of Intent to Suspend issued by EPA pursuant to section 3(c)(2)(B) of FIFRA have become final and effective suspension orders. The Notices of Intent to Suspend were issued following the Agency’s issuance of a Data Call-In notice (DCI), which required the registrant, Bonide Products Inc., of the affected pesticide products containing the pesticide active ingredients carbaryl and sodium acifluorfen to take appropriate steps to secure certain data, and following the registrant’s failure to submit these data or to take other appropriate steps to secure the required data. The subject data were determined to be required to maintain in effect the existing registrations of the affected products. Failure to comply with the data requirements of a DCI is a basis for suspension of the affected registrations under section 3(c)(2)(B) of FIFRA.

DATES: Each Notice of Intent to Suspend included in this Federal Register notice became a final and effective suspension order automatically by operation of law 30 days after the date of the registrant’s receipt of the mailed Notice of Intent to Suspend.

FOR FURTHER INFORMATION CONTACT: Terria Northern, Office of Pesticide Programs, Environmental Protection Agency, 1200 Pennsylvania Ave., NW., Washington, DC 20460-0001; telephone number: (703) 305-7093; e-mail address: northern.terria@epa.gov.

SUPPLEMENTARY INFORMATION:

I. General Information

A. Does this Action Apply to Me?

This action is directed to the public in general, and may be of interest to a wide range of stakeholders including environmental, human health, farm worker and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2009-0390. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Registrant Issued Notices of Intent to Suspend, Active Ingredients, Products Affected, and Date Issued

Each Notice of Intent to Suspend was sent via the U.S. Postal Service (USPS) return receipt requested to the registrant for the products listed in Table 1 of this unit.

Table 1. —List of Products
Registrant Affected | Active Ingredient | EPA Registration Number | Product Name | Date EPA Issued Notice of Intent to Suspend | Date Registrant Received Notice of Intent to Suspend
Bonide Products, Inc. | Carbaryl | 4-142 | Grubtox Lawn and Insect Control | February 5, 2009 | February 9, 2009
Bonide Products, Inc. | Carbaryl | 4-143 | Bonide Sevin 5% Dust Insecticide | February 5, 2009 | February 9, 2009
Bonide Products, Inc. | Carbaryl | 4-333 | Bonide Slug, Snail and Sowbug Bait | February 5, 2009 | February 9, 2009
Bonide Products, Inc. | Carbaryl | 4-413 | Bonide Sevin Garden Dust | February 5, 2009 | February 9, 2009
Bonide Products, Inc. | Sodium acifluorfen | 4-433 | KleenUp Grass & Weed Killer Ready to Use | April 7, 2009 | April 13, 2009

III. Basis for Issuance of Notice of Intent to Suspend; Requirement List

Bonide Products, Inc. received the carbaryl Notice of Intent to Suspend on February 9, 2009, and the sodium acrifluorfen Notice of Intent to Suspend on April 13, 2009, as evidenced by the USPS return receipt cards. No requests for hearings were received concerning either Notice of Intent to Suspend within the time frame specified by FIFRA and in each of the issued Notice of Intent to Suspend. Bonide Products, Inc. failed to submit the required data or information or to take other appropriate steps to secure the required data for their pesticide product as listed in Table 2 of this unit.

Table 2.—List of Requirements
EPA Registration Number | OPPTS Harmonized Guideline # as Listed in Applicable DCI | Requirement Name | Date EPA Issued DCI | Date Registrant Received DCI | Final Data Due Date | Reason for Notice of Intent to Suspend
4-142 | 830.6317 830.6320 | Storage Stability Corrosion Characteristics | March 10, 2005 | April 1, 2005 | April 16, 2008 | No data received
4-143 | 830.6317 830.6320 | Storage Stability Corrosion Characteristics | March 10, 2005 | April 1, 2005 | April 16, 2008 | No data received
4-333 | 830.6317 830.6320 | Storage Stability Corrosion Characteristics | March 10, 2005 | April 1, 2005 | April 16, 2008 | No data received
4-413 | 830.6317 830.6320 | Storage Stability Corrosion Characteristics | March 10, 2005 | April 1, 2005 | April 16, 2008 | No data received
4-433 | 830.1800 830.6317 830.6320 | Enforcement Analytical Method Storage Stability Corrosion Characteristics | January 25, 2005 | January 30, 2005 | September 25, 2005 | No data received

IV. Status of Products

Effective March 7, 2009 (for EPA registration numbers 4-142, 4-143, 4-333, and 4-413), and May 7, 2009 (for EPA registration number 4-433), the registrant subject to this notice, including all supplemental registrants of products listed in Table 1 of Unit II., may not legally distribute, sell, use, offer for sale, hold for sale, ship, deliver for shipment, or receive and (having so received) deliver or offer to deliver, to any person, the products listed in Table 1 of Unit II. Persons other than the registrant subject to this notice, as defined in the preceding sentence, may continue to distribute, sell, use, offer for sale, hold for sale, ship, deliver for shipment, or receive and (having so received) deliver or offer to deliver, to any person, the products listed in Table 1 of Unit II. Nothing in this notice authorizes any person to distribute, sell, use, offer for sale, hold for sale, ship, deliver for shipment, or receive and (having so received) deliver or offer to deliver, to any person, the products listed in Table 1 of Unit II. in any manner which would have been unlawful prior to the suspension.

If the registrations for the products listed in Table 1 of Unit II. are currently suspended as a result of failure to comply with another FIFRA section 3(c)(2)(B) Data Call-In notice or section 4 Data Requirements notice, this notice will be in addition to any existing suspension, i.e., all requirements which are the bases of the suspension must be satisfied before the registration will be reinstated.

It is the responsibility of the basic registrant to notify all supplementary registered distributors of a basic registered product that this suspension action also applies to their supplementary registered products. The basic registrant may be held liable for violations committed by their distributors.

Any questions about the requirements and procedures set forth in this notice or in the subject FIFRA section 3(c)(2)(B) Data Call-In notice, should be addressed to the person listed under FOR FURTHER INFORMATION CONTACT.

VI. What is the Agency's Authority for Taking this Action?

The Agency's authority for taking this action is contained in sections 3(c)(2)(B) and 6(f)(2) of FIFRA, 7 U.S.C. 136 >et seq.

List of Subjects

Environmental protection, Pesticides and pests.

Dated: June 17, 2009.
Richard P. Keigwin,
Director, Special Review and Reregistration Division, Office of Pesticide Programs.

[FR Doc. E9-14854 Filed 6-23-09; 8:45 am]

BILLING CODE 6560-50-S